FEDERAL ELECTION COMMISSION

Sunshine Act Notice

CANCELLATION OF PREVIOUSLY ANNOUNCED MEETINGS: Tuesday, December 4, 2001, 10 a.m.; meeting closed to the public.

Thursday, December 6, 2001, 10 a.m.; meeting open to the public.

DATE & TIME: Thursday, December 6, 2001 at 10 a.m.

PLACE: 999 E Street, NW, Washington, DC.

STATUS: This meeting will be closed to the public.

ITEMS TO BE DISCUSSED:

Compliance matters pursuant to 2 U.S.C. § 437g.

Audits conducted pursuant to 2 U.S.C. § 437g, § 438(b), and title 26, U.S.C.

Matters concerning participation in civil actions or proceedings or arbitration.

Internal personnel rules and procedures or matters affecting a particular employee.

PERSON TO CONTACT FOR INFORMATION: M. Ron Harris, Press Officer, telephone: (202) 694-1220.

Mary W. Dove,
Secretary of the Commission.

[FR Doc. 01-29790 Filed 11-27-01; 2:44 pm]

BILLING CODE 6715-01-M